DEPARTMENT OF LABOR

Occupational Safety and Health Administration

National Advisory Committee on Ergonomics; Notice of Meeting

AGENCY: Occupational Safety and Health Administration (OSHA), Labor.

ACTION: Notice.

SUMMARY: The National Advisory Committee on Ergonomics (NACE) is part of the Secretary's comprehensive approach for reducing ergonomics-related injuries and illnesses in the workplace. The committee was convened for the first time on January 22, 2003. This notice schedules the fifth NACE meeting. The public is encouraged to attend.

DATES: The Committee workgroups will meet on Tuesday, May 11, 2004, from 1 p.m. until approximately 5 p.m. The full committee will meet on Wednesday, May 12, 2004, from 8:30 a.m. until approximately 5 p.m.

ADDRESSES: The committee will meet at the Holiday Inn on the Hill, 415 New Jersey Avenue., NW, Washington, DC 20001; Telephone: (202) 638-1616. Submit comments, views, or statements in response to this notice to MaryAnn Garrahan, Director, Office of Technical Programs and Coordination Activities, OSHA, U.S. Department of Labor, Room N-3655, 200 Constitution Avenue, NW., Washington, DC 20210. Phone: (202) 693-2144; Fax: (202) 693-1644.

FOR FURTHER INFORMATION CONTACT: OSHA, Office of Communications, Room N-3647, U.S. Department of Labor, 200 Constitution Avenue, NW., Washington, DC 20210; Telephone: (202) 693-1999.

SUPPLEMENTARY INFORMATION: NACE was chartered for a two-year term on November 27, 2002, to provide advice and recommendations on ergonomic guidelines, research, and outreach and assistance. The committee has met on January 22, 2003, May 6-7, 2003, and January 27-28, 2004 in Washington, DC, and on September 23-24, 2003 in Arlington, VA. This notice announces the fifth meeting of the committee, which will take place in Washington, DC, on May 11-12, 2004.

I. Meeting Agenda

The Committee's working groups on Research, Guidelines, and Outreach and Assistance will meet on the afternoon of May 11. The working groups will report back to the full Committee on May 12th and lead discussions about their respective topics. On the morning of May 12, representatives of OSHA, will address the committee.

II. Public Participation

Written data, views, or comments for consideration by NACE on the various agenda items listed above may be submitted, preferably with copies for the NACE members, to MaryAnn Garrahan at the address listed above. Submissions received by May 4, 2004, will be provided to the committee members for consideration. Requests to make oral presentations to the committee may be granted if time permits. Anyone wishing to make an oral presentation to the committee should notify MaryAnn Garrahan at the address noted above. The request should state the amount of time desired, the capacity in which the person will appear, and a brief outline of the content of the presentation. Persons who request an oral presentation may be allowed to speak, as time permits, at the discretion of the Chair of the Advisory committee.

Persons with disabilities requiring special accommodations should contact Veneta Chatmon (Phone: (202) 693-1912; Fax (202) 693-1635) by April 30, 2004.

A transcript of the meeting will be available for inspection and copying in the OSHA Technical Data Center, Room N-2625 (see ADDRESSES section above) Phone: (202) 693-2350. Transcripts of NACE meetings will also be available online on OSHA's Web site at http://www.osha.gov/SLTC/ergonomics/nat_advis_comm.html.

Authority: This notice was prepared under the direction of John L. Henshaw, Assistant Secretary for Occupational Safety and Health. It is issued under the Federal Advisory Committee Act (FACA) (5 U.S.C. App. 2), GSA's FACA Regulations (41 CFR part 102-3), and DLMS 3 Chapter 1600.

Signed at Washington, DC, this 22nd day of April, 2004.
John L. Henshaw,
Assistant Secretary.

[FR Doc. 04-9571 Filed 4-27-04; 8:45 am]

BILLING CODE 4510-26-P